DEPARTMENT OF ENERGY

Federal Energy Regulatory Commission

Notice of Application For Amendment of License and Soliciting Comments, Motions To Intervene, and Protests

February 2, 2000.

Take notice that the following hydroelectric application has been filed with the Commission and is available for public inspection.

a. Type of Application: Amendment of License.

b. Project No. 2543-045.

c. Date Filed: December 28, 1999.

d. Applicant: The Montana Power Company.

e. Name of Project: Milltown.

f. Location: On the Clark Fork River in Missoula County, Montana. The project does not utilize federal or tribal lands.

g. Filed Pursuant to: Federal Power Act, 16 U.S.C. 791(a)-825(r).

h. Applicant Contact: Michael P. Manion, The Montana Power Company, 40 East Broadway, Butte, Montana 59701, (406) 497-2456.

i. FERC Contact: Regina Saizan, (202) 219-2673, or e-mail address: regina.saizan@ferc.fed.us.

Deadline for filing comments and or motions: March 10, 2000.

All documents (original and eight copies) should be filed with: David P. Boergers, Secretary, Federal Energy Regulatory Commission, 888 First Street, NE, Washington, DC 20426.

Please include the Project Number (2543-045) on any comments or motions filed.

k. Description of Amendment: The licensee requests that its license be amended to extend the expiration date of the license two years, from December 31, 2004 to December 31, 2006. On December 30, 1999, the license filed a notice of intent not to relicense the Milltown Project, with the understanding that its notice would become moot if its request to extend the term of the license is granted.

l. Location of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-2792 Filed 2-7-00; 8:45 am]

BILLING CODE 6717-01-M